DEPARTMENT OF JUSTICE

Antitrust Division

Notice Pursuant to the National Cooperative Research and Production Act of 1993—Open Mobile Alliance

Notice is hereby given that, on September 7, 2017, pursuant to Section 6(a) of the National Cooperative Research and Production Act of 1993, 15 U.S.C. 4301 et seq. (“the Act”), Open Mobile Alliance (“OMA”) has filed written notifications simultaneously with the Attorney General and the Federal Trade Commission disclosing changes in its membership. The notifications were filed for the purpose of extending the Act's provisions limiting the recovery of antitrust plaintiffs to actual damages under specified circumstances. Specifically, Cisco Systems, Inc., Seattle, WA; Mind Reader, Hangzhou City, PEOPLE'S REPUBLIC OF CHINA; Itron, Inc. Fort Worth, TX; and NewNet Communication Technologies, Inc., Bedford, NS, CANADA have been added as parties to this venture.

Also, Anritsu Ltd., Bedfordshire, UNITED KINGDOM has withdrawn as a party to this venture.

No other changes have been made in either the membership or planned activity of the group research project. Membership in this group research project remains open, and OMA intends to file additional written notifications disclosing all changes in membership.

On March 18, 1998, OMA filed its original notification pursuant to Section 6(a) of the Act. The Department of Justice published a notice in the Federal Register pursuant to Section 6(b) of the Act on December 31, 1998 (63 FR 72333).

The last notification was filed with the Department on January 26, 2017. A notice was published in the Federal Register pursuant to Section 6(b) of the Act on March 6, 2017 (82 FR 12639).

Patricia A. Brink,
Director of Civil Enforcement, Antitrust Division.

[FR Doc. 2017-21744 Filed 10-6-17; 8:45 am]

BILLING CODE P